NATIONAL AERONAUTICS AND SPACE ADMINISTRATION

[Notice 00-054]

NASA Advisory Council (NAC), Task Force on International Space Station Operational Readiness; Meeting

AGENCY: National Aeronautics and Space Administration.

ACTION: Notice of meeting.

SUMMARY: In accordance with the Federal Advisory Committee Act, Pub. L. 92-463, as amended, the National Aeronautics and Space Administration announces an open meeting of the NAC Task Force on International Space Station Operational Readiness (IOR).

DATES: Wednesday, June 7, 2000, 12 p.m.—1 p.m. Eastern Daylight Time.

ADDRESSES: NASA Headquarters, 300 E Street, SW, Room 7W31, Washington, DC 20546.

FOR FURTHER INFORMATION CONTACT: Mr. Philip Cleary, Code IH, National Aeronautics and Space Administration, Washington, DC 20546-0001, 202/358-4461.

SUPPLEMENTARY INFORMATION: This meeting will be open to the public up to The seating capacity of the room. The agenda for the meeting is as follows:

—Review the status of the assessment conducted by the IOR Task Force and the Russian Aviation and Space Agency (Utkin) Advisory Expert Council on the Russian investigation of the Proton launch failures of July 5 and October 27, 1999. This assessment includes the corrective action taken to help ensure a successful International Space Station Service Module launch.

It is imperative that the meeting be held on this date to accommodate the Scheduling priorities of the key participants. Visitors will be requested to sign a visitors register.

Dated: May 17, 2000.
Mathew M. Crouch,
Advisory Committee Management Officer,, National Aeronautics and Space Administration.

[FR Doc. 00-13350 Filed 5-26-00; 8:45 am]

BILLING CODE 7510-01-P